DEPARTMENT OF HOUSING AND URBAN DEVELOPMENT

[Docket No. FR-7106-N-12]

Privacy Act of 1974; System of Records

AGENCY: Department of Housing and Urban Development (HUD).

ACTION: Notice of a modified systems of records.

SUMMARY: Under the Privacy Act of 1974, as amended, the Department of Housing and Urban Development (HUD) is issuing a public notice of its intent to modify the HUD System of Records Notices for the HUD systems of records listed below.

DATES: Comments will be accepted on or before February 17, 2026. This proposed action will be effective on the date following the end of the comment period unless comments are received which result in a contrary determination.

ADDRESSES: You may submit comments, identified by docket number by one method:

Federal e-Rulemaking Portal: http://www.regulations.gov. Follow the instructions provided on that site to submit comments electronically.

Fax: 202-485-9531.

Email: privacy@hud.gov.

Mail: Attention: Privacy Office; Shalanda Capehart, Acting Chief Privacy Officer; The Executive Secretariat; 451 7th Street SW, Room 10139; Washington, DC 20410-0001.

Instructions: All submissions received must include the agency name and docket number for this rulemaking. All comments received will be posted without change to http://www.regulations.gov, including any personal information provided.

Docket: For access to the docket to read background documents or comments received go to http://www.regulations.gov.

FOR FURTHER INFORMATION CONTACT: Shalanda Capehart, Acting Chief Privacy Officer, 451 7th Street SW, Room 10139; Washington, DC 20410-0001; telephone (202) 402-5085 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: On March 25, 2025, President Trump issued Executive Order (E.O.) 14249, “Protecting America's Bank Account Against Fraud, Waste, and Abuse.” In the E.O., President Trump directed agency heads to review and modify relevant System of Records Notices (SORNs) under the Privacy Act of 1974 to include a routine use that allows for the disclosure of records to the Department of Treasury for the purposes of identifying, preventing, or recouping fraud and improper payments, to the extent permissible by law. Pursuant to E.O. 14249 and Office of Management and Budget (OMB) Memorandum M-25-32, “Preventing Improper Payments and Protecting Privacy Through Do Not Pay” (August 20, 2025), this notice: (1) adds a new routine use to the end of the routine use section of the HUD systems of records notices listed below; and (2) removes the Do Not Pay routine use for the System of Records Notice titled “Single Family Mortgage Insurance Origination System” last published at 90 FR 36173 (August 1, 2025), listed as routine use “P”: To the US Department of Treasury through a computer matching program interface between CHUMS and Treasury's Do Not Pay (DNP) system for the purposes of preventing and recovering improper payments and to verify borrower eligibility to participate in FHA's mortgage insurance programs per the Payments Integrity Information Act of 2019.”

The following routine use shall be added to the end of each routine use section for the systems of records listed below:

System Name and No. | Federal Register, citation(s)
Line of Credit Control System (LOCCS), A67 | 89 FR 5923, 87 FR 12717, 79 FR 16805.
HUD Central Accounting and Program System (HUDCAPS), A75 | 87 FR 50638, 83 FR 11240.
Enterprise Income Verification (EIV), HUD/PIH-05 | 89 FR 105066, 87 FR 50635.
Inventory Management System, Public and Indian Housing Information Center (IMS/PIC) and Housing Information Portal (HIP), HUD/PIH-01 | 89 FR 1121, 88 FR 17004.
Single Family Insurance System, HUD/HOU-04 | 88 FR 87450, 81 FR 59235, 64 FR 40032.
Distributive Shares and Refund Subsystem (DSRS), HUD/HOU-03 | 89 FR 12368, 87 FR 61618, 72 FR 40890.
Single-Family Mortgage Asset Recovery Technology (SMART), HUD/HOU-58 | 89 FR 12865, 75 FR 34755.
Single Family Acquired Asset Management System, HUD/HOU-01 | 88 FR 69215, 88 FR 45239, 79 FR 10825.
Single Family Housing Enterprise Data Warehouse, HOU.SF/HUD-05 | 89 FR 50623, 80 FR 12516.
Tenant Rental Assistance Certification System (TRACS), HUD/HOU-11 | 89 FR 92700, 88 FR 62813.
HUD/DEPT-03, Comprehensive Servicing and Management System | 88 FR 14634, 83 FR 7208.
Home Equity Reverse Mortgage Information Technology (HERMIT), HOU-31 | 86 FR 64515, 81 FR 33690, 77 FR 61620.

SECURITY CLASSIFICATION:

The applicable security classification is identified in each notice.

SYSTEM LOCATION:

The applicable system location is identified in each notice.

SYSTEM MANAGER(S):

The applicable system manager(s) is identified in each notice.

ROUTINE USES OF RECORDS MAINTAINED IN THE SYSTEM, INCLUDING CATEGORIES OF USERS AND PURPOSES OF SUCH USES:

To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

HISTORY:

See system name and number above.

Shalanda L. Capehart,
Acting Chief Privacy Officer, Office of Administration.

[FR Doc. 2026-00809 Filed 1-15-26; 8:45 am]

BILLING CODE 4210-67-P